DEPARTMENT OF THE INTERIOR

President's Council on Integrity and Efficiency; Senior Executive Service Performance Review Board Membership

AGENCY: Office of Inspector General, Interior.

ACTION: Notice.

SUMMARY: This notice sets forth the names and titles of the current membership of the President's Council on Integrity and Efficiency (PCIE) Performance Review Board as of September 11, 2008.

DATES: Effective Date: September 17, 2008.

FOR FURTHER INFORMATION CONTACT: Individual Offices of Inspectors General at the telephone numbers listed below.

SUPPLEMENTARY INFORMATION:

I. Background

The Inspector General Act of 1978, as amended, created the Offices of Inspectors General as independent and objective units to conduct and supervise audits and investigations relating to Federal programs and operations. Executive Order 12301 (March 26, 1981) established the President's Council on Integrity and Efficiency (PCIE) to coordinate and enhance governmental efforts to promote integrity and efficiency and to detect and prevent fraud, waste, and abuse in Federal programs. The PCIE is an interagency committee chaired by the Office of Management and Budget's Deputy Director for Management, and is comprised principally of the 29 Presidential appointed Inspectors General (IGs).

II. PCIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the President's Council on Integrity and Efficiency Performance Review Board, as of October 2, 2006, are as follows:

Agency for International Development

Phone Number: (202) 712-1150

PCIE/ECIE Liaison—Thereasa L. Lyles (202) 712-1393

Michael G. Carroll, Deputy Inspector General

Adrienne Rish, Assistant Inspector General for Investigations

Howard Hendershot, Deputy Assistant Inspector General for Investigations

Joe Farinella (SFS), Assistant Inspection General for Audit

Bruce Boyer (SFS), Deputy Assistant Inspector General for Audit

Paula Hayes, Assistant Inspector General for Management

Lisa Goldfluss, Counsel to the Inspector General

Dona Dinkler, Chief of Staff

Alvin Brown, Assistant Inspector General for Millennium Challenge Corporation

Department of Agriculture

Phone Number: (202) 720-8001

PCIE/ECIE Liaison—Cheryl Viani (202) 720-8001

Kathleen S. Tighe, Deputy Inspector General

David R. Gray, Counsel to the Inspector General

Robert W. Young, Jr., Assistant Inspector General for Audit

Marlane T. Evans, Deputy Assistant Inspector General for Audit

Tracy A. LaPoint, Deputy Assistant Inspector General for Audit

Karen L. Ellis, Assistant Inspector General for Investigations

Geoffrey Cherrington, Deputy Assistant Inspector General for Investigations

Suzanne M. Murrin, Assistant Inspector General for Management

Rod DeSmet, Assistant Inspector General for Inspections and Research

Department of Commerce

Phone Number: (202) 482-4661

PCIE/ECIE Liaison—Cecilia Young (202) 482-4661

Edward L. Blansitt, Deputy Inspector General

Vacant, Assistant Inspector General for Investigation

Allison C. Lerner, Counsel to the Inspector General

Judith J. Gordon, Assistant Inspector General for Audit and Evaluation

Vacant, Assistant Inspector General for Auditing

Vacant, Assistant Inspector General for Inspections and Program Evaluation

Vacant, Assistant Inspector General for Compliance and Administration

Department of Defense

Phone Number: (703) 604-8324

PCIE/ECIE Liaison—John R. Crane (703) 604-8324

Thomas F. Gimble, Principal Deputy Inspector General

Patricia A. Brannin, Deputy Inspector General for Intelligence

Donald M. Horstman, Deputy Inspector General for Policy and Oversight

John R. Crane, Assistant Inspector General for Communications and Congressional Liaison

William Brem Morrison, III, Assistant Inspector General for Inspections and Evaluations, Office of the Deputy Inspector General for Policy and Oversight

Joseph R. Oliva, Assistant Inspector General for Readiness and Operations Support, Office of the Deputy Inspector General for Auditing

Department of Education

Phone Number: (202) 245-6900

PCIE/ECIE Liaison—Catherine Grant (202) 245-7023

Mary Mitchelson, Acting Inspector General and Deputy Inspector General

Wanda Scott, Assistant Inspector General for Evaluations, Inspections and Management Services

Keith West, Assistant Inspector General for Audit Services

George Rippey, Deputy Assistant Inspector General for Audit Services

William Hamel, Assistant Inspector General for Investigative Services

Charles Coe, Assistant Inspector General for Information Technology and Computer Crimes Investigation

Howard Sorenson, Acting Counsel to the Inspector General

Department of Energy

Phone Number: (202) 586-4393

PCIE/ECIE Liaison—Juston Fontaine (202) 586-1959

John Hartman, Assistant Inspector General for Investigations

Chris Sharpley, Deputy Inspector General for Investigations and Inspections

Rickey Hass, Assistant Inspector General for Financial Audits

Linda Snider, Assistant Inspector General for Audit Planning and Administration

Sanford Parnes, Counsel to the Inspector General

George Collard, Assistant Inspector General for National Nuclear Security Administration and Energy Audits

Department of Health and Human Services

Phone Number: (202) 619-3148

PCIE/ECIE Liaison—Sheri Denkensohn (202) 619-3148

Lewis Morris, Chief Counsel to the Inspector General

Sam Shellenberger, Deputy Inspector General for the Office of Management and Policy

Joe Green, Assistant Inspector General for Financial Management and Regional Operations

Department of Homeland Security

Phone Number: (202) 254-4100

PCIE/ECIE Liaison—Denise S. Johnson (202) 254-4100

James L. Taylor, Deputy Inspector General

Matt Jadacki, Deputy Inspector General for Emergency Management Oversight

Richard N. Reback, Counsel to the Inspector General

Anne L. Richards, Assistant Inspector General for Audits

Edward Stulginsky, Deputy Assistant Inspector General for Audits

Sondra McCauley, Deputy Assistant Inspector General for Planning and Oversight, Audits

Carlton I. Mann, Assistant Inspector General for Inspections

Thomas M. Frost, Assistant Inspector General for Investigations

James Gaughran, Deputy Assistant Inspector General for Investigations

Frank Deffer, Assistant Inspector General for Information Technology

Edward F. Cincinnati, Assistant Inspector General for Administration

Department of Housing and Urban Development

Phone Number: (202) 708-0430

PCIE/ECIE Liaison—Helen Albert (202) 708-0614, Ext. 8187

Michael P. Stephens, Deputy Inspector General

James A. Heist, Assistant Inspector General for Audit

Bryan P. Saddler, Counsel to the Inspector General

John McCarty, Deputy Assistant Inspector General for Inspections and Evaluations

Lester Davis, Deputy Assistant Inspector General for Investigations

Randy McGinnis, Deputy Assistant Inspector General for Audit

Helen Albert, Deputy Assistant Inspector General for Management and Policy

Department of the Interior

Phone Number: (202) 208-5745

PCIE/ECIE Liaison—Deborah Holmes (202) 208-2380

Mary Kendall, Deputy Inspector General

Michael Wood, Chief of Staff

Robert Romanyshyn, Assistant Inspector General for Audits

Kimberly Elmore, Assistant Inspector General for Inspections and Evaluations

Steve Hardgrove, Assistant Inspector General for Investigations

John Dupuy, Principal Deputy Assistant Inspector General for Investigations

Renee Pettis, Assistant Inspector General for Management

Thomas Moyle, Deputy Assistant Inspector General for Management

Department of Justice

Phone Number: (202) 514-3435

PCIE/ECIE Liaison—Cynthia Schnedar (202) 514-3435

Paul K. Martin, Deputy Inspector General

Gail A. Robinson, General Counsel

Raymond J. Beaudet, Assistant Inspector General for Audit

Carol F. Ochoa, Assistant Inspector General for Oversight and Review

Gregory T. Peters, Assistant Inspector General for Management and Planning

Thomas F. McLaughlin, Assistant Inspector General for Investigations

Department of Labor

Phone Number: (202) 693-5100

PCIE/ECIE Liaison—Susan Carnohan (202) 693-5283

Daniel R. Petrole, Deputy Inspector General

Nancy F. Ruiz de Gamboa, Assistant Inspector General for Management and Policy

Thomas F. Farrell, Assistant Inspector General for Labor Racketeering and Fraud Investigations

Elliot P. Lewis, Assistant Inspector General for Audit

Michael A. Raponi, Deputy Assistant Inspector General for Audit

Howard L. Shapiro, Counsel for the Inspector General

Richard S. Clark, Deputy Assistant Inspector General for Labor Racketeering and Fraud Investigations

Department of State and the Broadcasting Board of Governors

Phone Number: (202) 663-6340

PCIE/ECIE Liaison—Michael Wolfson (703) 284-2710

Ambassador Harold W. Geisel, Acting Inspector General

Ambassador Harold W. Geisel, Deputy Inspector General

Erich O. Hart, General Counsel

Mark Duda, Assistant Inspector General for Audits

James B. Burch, Assistant Inspector General for Investigations

Robert B. Peterson, Assistant Inspector General for Inspections

Richard (Nick) Arnston, Assistant Inspector General for the Middle East Region

Cynthia Saboe, Acting Assistant Inspector General for Administration

Department of Transportation

Phone Number: (202) 366-1959

PCIE/ECIE Liaison—Madeline Chulumovich (202) 366-6512

Theodore P. Alves, Deputy Inspector General

David A. Dobbs, Principal Assistant Inspector General for Auditing and Evaluation

Lou Dixon, Assistant Inspector General for Aviation & Special Program Audits

Matthew Hampton, Deputy Assistant Inspector General for Aviation & Special Program Audits

Rebecca C. Leng, Assistant Inspector General for Financial and Information Technology Audits

Joe Come, Assistant Inspector General for Highway and Transit Audits

Rosalyn Millman, Deputy Assistant Inspector General for Highway and Transit Audits

David E. Tornquist, Assistant Inspector General for Rail and Maritime Program Audits and Economic Analysis

Mark Zabrasky, Assistant Inspector General for Acquisition and Procurement Audits

Charles H. Lee, Jr., Assistant Inspector General for Investigations

Richard C. Beitel, Jr., Assistant Inspector General for Washington Investigative Operations

Brian A. Dettelbach, Assistant Inspector General for Legal, Legislative, and External Affairs

Department of the Treasury

Phone Number: (202) 622-1090

PCIE/ECIE Liaison—Nicolas J. Ojeda (202) 927-5779

Dennis S. Schindel, Deputy Inspector General

Debra L. McGruder, Acting Assistant Inspector General for Management

Marla A. Freedman, Assistant Inspector General for Audit

David S. Smith, Acting Assistant Inspector General for Investigations

Robert A. Taylor, Deputy Assistant Inspector General for Program Audit

Richard K. Delmar, Counsel to the Inspector General

Treasury Inspector General for Tax Administration/Department of the Treasury

Phone Number: (202) 622-6500

PCIE/ECIE Liaison—Bonnie Heald (202) 927-7037

Joseph Hungate, Principal Deputy Inspector General

Michael Phillips, Deputy Inspector General for Audit

Michael McKenney, Associate Inspector General for Wage and Investment Income

Timothy Camus, Assistant Inspector General for Investigations

Michael A. Delgado, Assistant Inspector General for Investigations

Roderick Fillinger, Chief Counsel to the Inspector General

Larry Koskinen, Associate Inspector General for Mission Support

Department of Veterans Affairs

Phone Number: (202) 461-4720

PCIE/ECIE Liaison—Catherine Gromek (202) 461-4720

James O'Neill, Assistant Inspector General for Investigations

Joseph G. Sullivan, Deputy Assistant Inspector General for Investigations

Belinda J. Finn, Assistant Inspector General for Auditing

Linda A. Halliday, Deputy Assistant Inspector General for Auditing

Richard Ehrlichman, Assistant Inspector General for Management and Administration

Joseph Vallowe, Deputy Assistant Inspector General for Management and Administration

John Daigh, Assistant Inspector General for Healthcare Inspections

Dana L. Moore, Deputy Assistant Inspector General for Healthcare Inspections

Maureen Regan, Counselor to the Inspector General

Environmental Protection Agency

Phone Number: (202) 566-0847

PCIE/ECIE Liaison—Eileen McMahon (202) 566-2546

Mark Bialek, Associate Deputy Inspector General and Counsel to the Inspector General

Eileen McMahon, Assistant Inspector General for Congressional, Public Liaison, and Management

Melissa Heist, Assistant Inspector General for Audit

Wade Najjum, Assistant Inspector General for Program Evaluation

Stephen Nesbitt, Assistant Inspector General for Investigations

Patricia Hill, Assistant Inspector General for Mission Systems

Equal Employment Opportunity Commission

Phone Number: (202) 663-4327

PCIE/ECIE Liaison—Larkin Jennings (202) 663-4391

Aletha L. Brown, Inspector General

Milton A. Mayo, Deputy Inspector General

Joyce T. Willoughby, Counsel to the Inspector General

Federal Trade Commission

Phone Number: (202) 326-2800

PCIE/ECIE Liaison—Zisa Lubarov-Walton (202) 326-2800

John Seeba, Inspector General

General Services Administration

Phone Number: (202) 501-0450

PCIE/ECIE Liaison—Sarah S. Breen (202) 219-1351

Eugene L. Waszily (Acting), Deputy Inspector General

Kevin A. Buford, Counsel to the Inspector General

Andrew Patchan, Jr., Assistant Inspector General for Auditing

Regina M. O'Brien, Deputy Assistant Inspector General for Auditing

Charles J. Augone, Assistant Inspector General for Investigations

Gregory G. Rowe, Deputy Assistant Inspector General for Investigations

National Aeronautics and Space Administration

Phone Number: (202) 358-1220

PCIE/ECIE Liaison—Renee Juhans (202) 358-1712

Thomas Howard, Deputy Inspector General

Frank LaRocca, Counsel to the Inspector General

Kevin Winters, Assistant Inspector General for Investigations

Evelyn Klemstine, Assistant Inspector General for Audits

Alan Lamoreaux, Assistant Inspector General for Management and Policy

National Science Foundation

Phone Number: (703) 292-7100

PCIE/ECIE Liaison—Bruce Carpel (703) 292-4982, Maury Pully (703) 292-5059

Thomas (Tim) Cross, Deputy Inspector General

Peggy Fischer, Assistant Inspector General for Investigations

Peace Corps

Phone Number: (202) 692-2900

PCIE/ECIE Liaison—Kathy Buller (703) 692-2916

Kathy Buller, Inspector General (Foreign Service)

Nuclear Regulatory Commission

Phone Number: (301) 415-5930

PCIE/ECIE Liaison—Deborah S. Huber (301) 415-5978

David C. Lee, Deputy Inspector General

Stephen D. Dingbaum, Assistant Inspector General for Audits

Joseph A. McMillan, Assistant Inspector General for Investigations

Office of Personnel Management

Phone Number: (202) 606-1200

PCIE/ECIE Liaison—Gary R. Acker (202) 606-2444

Norbert E. Vint, Deputy Inspector General

Terri Fazio, Assistant Inspector General for Management

Michael R. Esser, Assistant Inspector General for Audits

J. David Cope, Assistant Inspector General for Legal Affairs

Jeffery E. Cole, Deputy Assistant Inspector General for Audits

Railroad Retirement Board

Phone Number: (312) 751-4690

PCIE/ECIE Liaison—Jill Roellig (312) 751-4993

William Tebbe, Assistant Inspector General for Investigations

Letty Benjamin Jay, Assistant Inspector General for Audit

Small Business Administration

Phone Number: (202) 205-6586

PCIE/ECIE Liaison—Robert F. Fisher (202) 205-6583

Peter L. McClintock, Deputy Inspector General

Glenn P. Harris, Counsel to the Inspector General

Debra S. Ritt, Assistant Inspector General for Auditing

Daniel J. O'Rourke, Assistant Inspector General for Investigations

Robert F. Fisher, Assistant Inspector General for Management and Policy

Social Security Administration

Phone Number: (410) 966-8385

PCIE/ECIE Liaison—Jonathan Lasher (410) 965-7178

Steven L. Schaeffer, Assistant Inspector General for Audit

Richard A. Rohde, Acting Assistant Inspector General for Investigations

Jonathan Lasher, Counsel to the Inspector General

United States Postal Service

Phone Number: (703) 248-2100

PCIE/ECIE Liaison—Agapi Doulaveris (703) 248-2286

Vacant, Deputy Inspector General

Elizabeth Martin, Assistant Inspector General, General Counsel

Gladis Griffith, Deputy Assistant Inspector General, General Counsel

Ron Stith, Assistant Inspector General, Mission Support

Mary Demory, Deputy Assistant Inspector General for Mission Support

David Sidransky, Chief Information Officer

Timothy Barry, Assistant Inspector General for Investigations

Lance Carrington, Deputy Assistant Inspector General for Investigations—Field Operations

LaVan Griffith, Deputy Assistant Inspector General for Headquarters

Gordon Milbourn, Assistant Inspector General for Audits

Robert Batta, Deputy Assistant Inspector General for Mission Operations

John Cihota, Deputy Assistant Inspector General for Audits—Financial Accountability

Darrell Benjamin, Deputy Assistant Inspector General for Audits—Support Operations

Tammy Whitcomb, Deputy Assistant Inspector General for Audits—Revenue and Systems

Dated: September 11, 2008.
Thomas R. Moyle,
Acting Assistant Inspector General, Department of Interior and Chair, Human Resources Committee, PCIE.

[FR Doc. E8-21660 Filed 9-16-08; 8:45 am]

BILLING CODE 3110-01-P